DEPARTMENT OF THE INTERIOR

National Park Service

Notice of Availability of a Plan of Operations and Environmental Assessment (EA), Big South Fork National River and Recreation Area, TN.

AGENCY: National Park Service, Interior.

ACTION: Notice of Availability of a Plan of Operations and Environmental Assessment (EA), Big South Fork National River and Recreation Area, Tennessee.

SUMMARY: Notice is hereby given in accordance with Section 9.52(b) of Title 36 of the Code of Federal Regulations, Part 9, Subpart B, of a Plan of Operations submitted by St. Joseph Petroleum, Inc., for continued production of six gas wells inside the boundary of Big South Fork National River and Recreation Area, Fentress County, Tennessee. Additionally, the NPS has prepared an EA for this proposal.

DATES: The above documents are available for pubic review and comment thirty days from the publication of this notice in the Federal Register.

ADDRESSES: The Plan of Operations and EA are available for public review and comment in the Office of the Superintendent, Reed E. Detring, Big South Fork National River and Recreation Area; 4564 Leatherwood Road; Oneida, TN 37841. The documents are also available at the Planning, Environment and Public Comment (PEPC) Web site at: http://parkplanning.nps.gov/BISO.

FOR FURTHER INFORMATION CONTACT: Ms. Phyllis Trabold, Community Planner, Big South Fork National River and Recreation Area; 4564 Leatherwood Road; Oneida, TN 37841, telephone: 423-569-2404 extension 231.

SUPPLEMENTARY INFORMATION: If you wish to comment on the EA, you may mail comments to the name and address above or post comments online at http://parkplanning.nps.gov/BISO. This EA will be on public review for 30 days. Before including your address, phone number, e-mail address, or other personal identifying information in your comment, you should be aware that your entire comment, including your personal identifying information, may be made publicly available at any time. While you can ask us in your comment to withhold your personal identifying information from public review, we cannot guarantee that we will be able to do so.

Dated: August 28, 2007.
Art Frederick,
Acting Regional Director, Southeast Region.

[FR Doc. E7-17768 Filed 9-7-07; 8:45 am]

BILLING CODE 4310-JD-P